NUCLEAR REGULATORY COMMISSION

[NRC-2013-0001]

Sunshine Act Meeting

AGENCY HOLDING THE MEETINGS: Nuclear Regulatory Commission.

DATE: Week of April 1, 2013

PLACE: Commissioners' Conference Room, 11555 Rockville Pike, Rockville, Maryland

STATUS: Public and Closed

Week of April 1, 2013—Tentative

Tuesday April 2, 2013

9:25 a.m. Affirmation Session (Public Meeting) (Tentative)

Motion to Quash Subpoena Filed by the Shaw Group, Inc. (Tentative)

This meeting will be webcast live at the Web address— www.nrc.gov.

* * * * *

*The schedule for Commission meetings is subject to change on short notice. To verify the status of meetings, call (recording)—301-415-1292. Contact person for more information: Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, or by email at kimberly.meyer-chambers@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: March 26, 2013.
Rochelle C. Bavol,
Policy Coordinator, Office of the Secretary.

[FR Doc. 2013-07466 Filed 3-27-13; 4:15 pm]

BILLING CODE 7590-01-P